DEPARTMENT OF COMMERCE

National Oceanic and Atmospheric Administration

Proposed Information Collection; Comment Request; Highly Migratory Species Tournament Registration and Reporting

AGENCY: National Oceanic and Atmospheric Administration (NOAA).

ACTION: Notice.

SUMMARY: The Department of Commerce, as part of its continuing effort to reduce paperwork and the respondent burden, invites the general public and other Federal agencies to take this opportunity to comment on proposed and/or continuing information collections, as required by the Paperwork Reduction Act of 1995.

DATES: Written comments must be submitted on or before February 17, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument(s) and instructions should be directed to Randy Blankinship, (727) 824-5399 or Randy.Blankinship@noaa.gov.

SUPPLEMENTARY INFORMATION:

I. Abstract

Under the authorization of the Magnuson-Stevens Fishery Management and Conservation Act, National Marine Fisheries Service (NMFS) would like to renew its requirement that operators of fishing tournaments involving Highly Migratory Species (HMS), specifically Atlantic tunas, swordfish, billfish, and sharks, provide advance identification of the tournament date(s), location, operator, and target species. Also, after the tournament, provide information on the HMS that are caught, whether they were kept or released, the length and weight of the fish, and other information. Most of the data required for post-tournament reporting are already collected in the course of routine tournament operations. The data collected are needed by NMFS to estimate the total annual catch of these species and to evaluate the impact of tournament fishing in relation to other types of fishing.

II. Method of Collection

Completed paper forms are returned to NMFS, at an address or FAX number designated by NMFS on the forms.

III. Data

OMB Control Number: 0648-0323.

Form Number: None.

Type of Review: Regular submission.

Affected Public: Business or other for-profit organizations; not-for-profit institutions.

Estimated Number of Respondents: 300.

Estimated Time per Response: 2 minutes for a registration form; and 20 minutes for a tournament summary report.

Estimated Total Annual Burden Hours: 83.

Estimated Total Annual Cost to Public: $161.20 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for Office of Management and Budget approval of this information collection; they also will become a matter of public record.

Dated: December 15, 2008.
Gwellnar Banks,
Management Analyst, Office of the Chief Information Officer.

[FR Doc. E8-30089 Filed 12-17-08; 8:45 am]

BILLING CODE 3510-22-P